DEPARTMENT OF COMMERCE

National Oceanic and Atmospheric Administration

[I.D. 022504A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Assistant Regional Administrator for Sustainable Fisheries, Northeast Region, NOAA Fisheries (Assistant Regional Administrator), has determined that an application for EFPs contains all of the required information and warrants further consideration. The Assistant Regional Administrator is considering the impacts of the activities to be authorized under the EFPs with respect to the Northeast (NE) Multispecies Fishery Management Plan (FMP). However, further review and consultation may be necessary before a final determination is made to issue EFPs. Therefore, NMFS announces that the Assistant Regional Administrator proposes to issue EFPs in response to an application submitted by the Maine Department of Marine Resources (Maine DMR). These EFPs would allow six commercial longline or tub trawl vessels to conduct fishing operations that are otherwise restricted by the regulations governing the fisheries of the Northeastern United States. The EFPs would allow for exemptions from the FMP as follows: Six federally permitted vessels would be allowed to fish for, land, and possess Atlantic halibut (Hippoglossus hippoglossus) in excess of the allowable landing and possession limit specified at 50 CFR 648.86(c) within a portion of the Gulf of Maine Regulated Mesh Area (GOM RMA); these vessels would be allowed to possess temporarily Atlantic halibut less than the minimum size requirement of 36 inches (91.4 cm) specified at § 648.83(a)(1) for purposes of collecting scientific information; and these vessels would be granted access to GOM Rolling Closure Area IV (June 1-June 30).

Regulations under the Magnuson-Stevens Act require publication of this notification to provide interested parties the opportunity to comment on applications for proposed EFPs.

DATES: Comments on this notification must be received at the appropriate address or fax number (see ADDRESSES) on or before March 16, 2004.

ADDRESSES: Comments on this notice may be submitted by e-mail. The mailbox address for providing e-mail comments is DA367@noaa.gov. Include in the subject line of the e-mail comment the following document identifier: “Comments on Maine Halibut EFP Proposal.” Written comments should be sent to Patricia A. Kurkul, Regional Administrator, NMFS, Northeast Regional Office, One Blackburn Drive, Gloucester, MA 01930. Mark the outside of the envelope “Comments on Maine Halibut EFP Proposal.” Comments may also be sent via facsimile to (978) 281-9135.

Copies of the Draft 2004 Amended Environmental Assessment (EA) Prepared for the Experimental Halibut Fishery in Groundfish Closed Areas in the Eastern Gulf of Maine are available from the Northeast Regional Office at the same address.

FOR FURTHER INFORMATION CONTACT: Susan Chinn, Fishery Management Specialist, 978-281-9218.

SUPPLEMENTARY INFORMATION: Maine DMR submitted an application on December 19, 2003, to conduct an experimental Atlantic halibut fishery using up to six commercial longline and tub trawl vessels in a portion of the GOM RMA. The proposed experiment is a continuation of experimental fisheries conducted by Maine DMR in 2000, 2001, 2002, and 2003 the fifth in a series of at least five anticipated studies aimed at collecting biological information to be used in the long-term management of this species. As with the prior studies, this year’s application proposes to collect data on the distribution, relative abundance, migration, stock definition, mortality rates, stock size, yield, and other significant biological reference points for Atlantic halibut.

The proposed 2004 experimental fishery would take place from May 1 to June 30, 2004, or 60 days concurrent from the start date, in a portion of the GOM RMA defined as follows:

Area point | N. Latitude | W. Latitude
HAL 1 | Mainland Maine Coastline | 69°00″
HAL 2 | 43°12.3″ | 69°00″
HAL 3 | 43°58.3″ | 67°21.5″
HAL 4¹ | Mainland Maine Coastline and U.S./Canada Maritime Boundary | Mainland Maine Coastline and U.S./Canada Maritime Boundary
¹Between points HAL 3 and HAL 4, the area follows the U.S./Canada maritime boundary.

Participating vessels would be authorized to use only traditional longline or tub trawl gear during the experiment. These vessels would be limited to a maximum of 700 hooks per boat, and would be restricted to using only circle hooks no smaller than 14∕0 in size.

Each of the six vessels would be limited to a total allowable catch (TAC) of 50 halibut, with no possession or landing limit prior to reaching this amount. Once the TAC is reached by an individual vessel, that vessel would be restricted to possessing and landing no more than four legal-sized halibut per day. The maximum number of Atlantic halibut that could be harvested as part of this study would be 500, the same number authorized to be harvested in the 2003 experimental fishery.

The EA prepared for the 2002 halibut experimental fishery and the 2003 Supplement to the 2002 EA, prepared for the 2003 halibut experimental fishery, concluded that the activities conducted under the 2002 and 2003 EFPs were consistent with the goals and objectives of the FMP and would have no negative environmental impacts including impacts to Essential Fish Habitat, marine mammals, and protected species. A Draft 2004 Amended Environmental Assessment (EA) Prepared for the Experimental Halibut Fishery in Groundfish Closed Areas in the Eastern Gulf of Maine has been prepared that analyzes the impacts of the proposed 2004 experimental fishery on the human environment. The draft Amended EA determines that the proposed experimental fishery to collect biological and ecological information on Atlantic halibut will not significantly affect the quality of the human environment.

Authority: 16 U.S.C. 1801 et seq.

Peter H. Fricke,
Acting Director, Office of Sustainable Fisheries, National Marine Fisheries Service.

[FR Doc. 04-4517 Filed 2-27-04; 8:45 am]

BILLING CODE 3510-22-S